DEPARTMENT OF TRANSPORTATION

Federal Aviation Administration

14 CFR Part 39

[Docket No. FAA-2021-0565; Project Identifier 2018-SW-111-AD; Amendment 39-21743; AD 2021-20-05]

RIN 2120-AA64

Airworthiness Directives; Leonardo S.p.a. Helicopters

AGENCY: Federal Aviation Administration (FAA), DOT.

ACTION: Final rule.

SUMMARY: The FAA is adopting a new airworthiness directive (AD) for certain Leonardo S.p.a Model AW189 helicopters. This AD was prompted by a report of an incorrect connection of the inflation hoses to the tee manifolds of the inflation line on the emergency flotation system (EFS) assembly. This AD requires visually inspecting the yellow sleeves and hoses installed on each EFS assembly and depending on the inspection results, accomplishing the corrective actions in the applicable service information as specified in a European Aviation Safety Agency (now European Union Aviation Safety Agency) (EASA) AD, which is incorporated by reference. The FAA is issuing this AD to address the unsafe condition on these products.

DATES: This AD is effective November 22, 2021.

The Director of the Federal Register approved the incorporation by reference of a certain document listed in this AD as of November 22, 2021.

ADDRESSES: For material incorporated by reference (IBR) in this AD, contact the EASA, Konrad-Adenauer-Ufer 3, 50668 Cologne, Germany; telephone +49 221 8999 000; email ADs@easa.europa.eu; internet www.easa.europa.eu. You may view this material on the EASA website at https://ad.easa.europa.eu. You may view this material at the FAA, Office of the Regional Counsel, Southwest Region, 10101 Hillwood Pkwy., Room 6N-321, Fort Worth, TX 76177. For information on the availability of this material at the FAA, call (817) 222-5110. It is also available in the AD docket on the internet at https://www.regulations.gov by searching for and locating Docket No. FAA-2021-0565.

Examining the AD Docket

You may examine the AD docket at https://www.regulations.gov by searching for and locating Docket No. FAA-2021-0565; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email Darren.Gassetto@faa.gov.

SUPPLEMENTARY INFORMATION:

Background

EASA, which is the Technical Agent for the Member States of the European Union, has issued EASA AD 2018-0279, dated December 14, 2018 (EASA AD 2018-0279), to correct an unsafe condition for Leonardo S.p.a. (formerly Finmeccanica Helicopter Division, AgustaWestland) Model AW189 helicopters.

The FAA issued a notice of proposed rulemaking (NPRM) to amend 14 CFR part 39 by adding an AD that would apply to certain Leonardo S.p.a. Model AW189 helicopters. The NPRM published in the Federal Register on July 15, 2021 (86 FR 37258). The NPRM was prompted by a report of a discrepancy found during a maintenance inspection related to the connection of the inflation hoses to the helicopter tee manifolds. EASA AD 2018-0279 states the yellow sleeve on the right-hand (RH) aft EFS assembly was installed on the straight-to-straight hose instead of the straight-to-45 degree hose, which caused the two hoses to be incorrectly connected to the tee manifolds at the inflation line. The NPRM proposed to require accomplishing the actions specified in EASA AD 2018-0279, described previously, as incorporated by reference, except for any differences identified as exceptions in the regulatory text of this proposed AD and except as discussed under “Differences Between this Proposed AD and EASA AD 2018-0279.”

The FAA is issuing this AD to prevent partial inflation of the flotation bags which could prevent a timely egress from the helicopter and consequent injury to helicopter occupants. See EASA AD 2018-0279 for additional background information.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

EASA AD 2018-0279 requires a visual inspection of each affected EFS assembly for correct installation of the yellow sleeves and proper connection of the inflation hoses to the float assembly and the bottle assembly. Depending on these inspection results, if an incorrect installation of the yellow sleeve or an incorrect connection of the inflation hoses is detected, EASA AD 2018-0279 requires, before next flight, removing incorrectly installed yellow sleeves, and incorrectly installed hoses, restoring markings on re-installed yellow sleeves, and re-connecting or re-installing hoses in accordance with the applicable service information. EASA AD 2018-0279 also prohibits installing any affected EFS assembly on any helicopter.

This material is reasonably available because the interested parties have access to it through their normal course of business or by the means identified in the ADDRESSES section.

Differences Between This AD and EASA AD 2018-0279

EASA AD 2018-0279 applies to Model AW189 helicopters, all serial numbers (S/Ns), whereas this AD only applies to Model AW189 helicopters with EFS assemblies having certain part-numbered aft assemblies with certain S/Ns installed.

Costs of Compliance

The FAA estimates that this AD affects 4 helicopters of U.S. Registry. Labor rates are estimated at $85 per work-hour. Based on these numbers, the FAA estimates the following costs to comply with this AD.

Visually inspecting each EFS assembly takes about 0.75 work-hours for an estimated cost of $64 per inspection and $260 for the U.S. fleet.

Performing the corrective actions on each EFS assembly takes about 1.25 work-hours for an estimated cost of $113 per EFS assembly.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-20-05 Leonardo S.p.a.: Amendment 39-21743; Docket No. FAA-2021-0565; Project Identifier 2018-SW-111-AD.

(a) Effective Date

This airworthiness directive (AD) is effective November 22, 2021.

(b) Affected ADs

None.

(c) Applicability

This AD applies to Leonardo S.p.a. Model AW189 helicopters, certificated in any category, with an affected emergency flotation system (EFS) assembly as defined in European Aviation Safety Agency (now European Union Aviation Safety Agency) (EASA) AD 2018-0279, dated December 14, 2018 (EASA AD 2018-0279).

(d) Subject

Joint Aircraft Service Component (JASC) Code: 3212, Emergency Flotation Section; 2560, Emergency Equipment.

(e) Unsafe Condition

This AD was prompted by a report of an incorrect connection of the inflation hoses to the tee manifolds of the inflation line on the EFS assembly. The FAA is issuing this AD to detect incorrect installation of the inflation hoses on the EFS assembly. The unsafe condition, if not addressed, could result in partial inflation of the flotation bags in a ditching event, preventing a timely egress from the helicopter and consequent injury to the helicopter occupants.

(f) Compliance

Comply with this AD within the compliance times specified, unless already done.

(g) Requirements

Except as specified in paragraph (h) of this AD: Comply with all required actions and compliance times specified in, and in accordance with, EASA AD 2018-0279.

(h) Exceptions to EASA AD 2018-0279

(1) Where EASA AD 2018-0279 requires compliance in terms of flight hours, this AD requires using hours time-in-service.

(2) Where EASA AD 2018-0279 requires compliance from its effective date, this AD requires using the effective date of this AD.

(3) Where the service information required by EASA AD 2018-0279 specifies recording compliance with the service bulletin in the helicopter logbook, this AD does not include that requirement.

(4) Where EASA AD 2018-0279 identifies all Model AW189 helicopters, all serial numbers in the applicability, this AD is only applicable to Model AW189 with an affected EFS assembly as defined in the definitions paragraph of the EASA AD.

(5) This AD does not require the “Remarks” section of EASA AD 2018-0279.

(i) No Reporting Requirement

Although the service information referenced in EASA AD 2018-0279 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Darren Gassetto, Aerospace Engineer, COS Program Management Section, Operational Safety Branch, Compliance & Airworthiness Division, FAA, 1600 Stewart Ave., Suite 410, Westbury, NY 11590; telephone (516) 228-7323; email Darren.Gassetto@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) European Aviation Safety Agency (now European Union Aviation Safety Agency) (EASA) AD 2018-0279, dated December 14, 2018.

(ii) [Reserved]

(3) For EASA AD 2018-0279, contact the EASA, Konrad-Adenauer-Ufer 3, 50668 Cologne, Germany; telephone +49 221 8999 000; email ADs@easa.europa.eu; internet www.easa.europa.eu. You may find this material on the EASA website at https://ad.easa.europa.eu.

(4) You may view this service information at the FAA, Office of the Regional Counsel, Southwest Region, 10101 Hillwood Pkwy., Room 6N-321, Fort Worth, TX 76177. For information on the availability of this material at the FAA, call (817) 222-5110.

(5) You may view this material that is incorporated by reference at the National Archives and Records Administration (NARA). For information on the availability of this material at NARA, email: fr.inspection@nara.gov, or go to: https://www.archives.gov/federal-register/cfr/ibr-locations.html.

Issued on September 15, 2021.
Gaetano A. Sciortino,
Deputy Director for Strategic Initiatives, Compliance & Airworthiness Division, Aircraft Certification Service.

[FR Doc. 2021-22465 Filed 10-15-21; 8:45 am]

BILLING CODE 4910-13-P